DEPARTMENT OF THE INTERIOR

Bureau of Land Management

[OR-050-1020-MJ; HAG 06-0043]

Notice of Public Meetings—John Day/Snake Resource Advisory Council

AGENCY: Bureau of Land Management (BLM), Prineville District.

SUMMARY: In accordance with the Federal Land Policy and Management Act (FLPMA) and the Federal Advisory Committee Act of 1972 (FACA), the U.S. Department of the Interior, Bureau of Land Management (BLM) John Day Snake Resource Advisory Council (RAC), will meet as indicated below:

The John Day/Snake Resource Advisory Council is scheduled to meet on February 7, 2006, at the Oxford Suites, 2400 SW., Court Place in Pendleton, OR 97801. The meeting time will be from approximately 8 a.m. to 4 p.m. A public comment will begin at 1 p.m. and end at 1:15 p.m. (Pacific Time). The meeting may include such topics as OHV, Noxious Weeds, Planning, Sage Grouse, and other matters as may reasonably come before the council. Potential updates specific to this scheduled meeting include salmon recovery, BLM Vegetation Management Environmental Impact Statement the John Day Snake Resource Management Plan.

Meeting Procedures: The meeting is open to the public. The public may present written comments to the Council. Depending on the number of persons wishing to provide oral comments and agenda topics to be covered, the time to do so may be limited. Individuals who plan to attend and need special assistance such as sign language interpretation, tour transportation or other reasonable accommodations, should contact the BLM representative indicated below. For a copy of the information to be distributed to the Council members, please submit a written request to the Prineville District Office 10 days prior to the meeting.

FOR FURTHER INFORMATION CONTACT: Additional information concerning the John Day/Snake Resource Advisory Council may be obtained from Virginia Gibbons, Public Affairs Specialist, Prineville District Office, 3050 NE., Third Street, Prineville, Oregon 97754, (541) 416-6647 or e-mail vgibbons@or.blm.gov.

Dated: December 15, 2005.
Stephen R. Robertson,
Associate District Manager.

[FR Doc. 05-24351 Filed 12-21-05; 8:45 am]

BILLING CODE 4310-33-P